DEPARTMENT OF THE INTERIOR

National Park Service

[N6591; NPS-WASO-NAGPRA-NPS0041305; PPWOCRADN0-PCU00RP14.R50000]

Notice of Inventory Completion: University of Tennessee at Chattanooga, Chattanooga, TN

AGENCY: National Park Service, Interior.

ACTION: Notice.

SUMMARY: In accordance with the Native American Graves Protection and Repatriation Act (NAGPRA), the University of Tennessee at Chattanooga (UTC) has completed an inventory of human remains and associated funerary objects and has determined that there is a cultural affiliation between the human remains and associated funerary objects and Indian Tribes or Native Hawaiian organizations in this notice.

DATES: Repatriation of the human remains and associated funerary objects in this notice may occur on or after December 18, 2025.

ADDRESSES: Send written requests for repatriation of the human remains and associated funerary objects in this notice to Kylie Williamson, The University of Tennessee at Chattanooga, 615 McCallie Avenue, Dept. 2101, Chattanooga, TN 37403, email nagpra@utc.edu.

SUPPLEMENTARY INFORMATION: This notice is published as part of the National Park Service's administrative responsibilities under NAGPRA. The determinations in this notice are the sole responsibility of the UTC, and additional information on the determinations in this notice, including the results of consultation, can be found in its inventory or related records. The National Park Service is not responsible for the determinations in this notice.

Abstract of Information Available

Human remains representing, at least, two individuals have been identified. The 41 lots of associated funerary objects are ceramics, lithics, shell, bone, soil samples, organics, radiocarbon samples, and daub. The materials associated with 40HA210, Lupton Site, Heritage Place Tract were excavated in Chattanooga, Hamilton County, Tennessee, by Dr. Nicholas Honerkamp and R. Bruce Council of UTC's Jeffrey L. Brown Institute of Archaeology in two phases of excavations in November 1984 and April 1985. Excavated materials, not including Ancestral remains were housed at UTC. Project reports from 1985 and 1990 indicate Ancestral remains were transferred to the McClung Museum of Natural History and Culture at the University of Tennessee, Knoxville (UTK), where they were housed until they were transferred to UTC on May 15, 2025. There are no known potentially hazardous substances used to treat any of the Ancestral remains or associated funerary objects.

Cultural Affiliation

Based on the information available and the results of consultation, cultural affiliation is clearly identified by the information available about the human remains and associated funerary objects described in this notice.

Determinations

The UTC has determined that:

• The human remains described in this notice represent the physical remains of two individuals of Native American ancestry.

• The 41 lots of objects described in this notice are reasonably believed to have been placed intentionally with or near individual human remains at the time of death or later as part of the death rite or ceremony.

• There is a connection between the human remains and associated funerary objects described in this notice and the Cherokee Nation; Eastern Band of Cherokee Indians; and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 18, 2025. If competing requests for repatriation are received, the UTC must determine the most appropriate requestor prior to repatriation. Requests for joint repatriation of the human remains and associated funerary objects are considered a single request and not competing requests. The UTC is responsible for sending a copy of this notice to the Indian Tribes and Native Hawaiian organizations identified in this notice and any other consulting parties.

Authority: Native American Graves Protection and Repatriation Act, 25 U.S.C. 3003, and the implementing regulations, 43 CFR 10.10.

Dated: September 30, 2025.
Melanie O'Brien,
Manager, National NAGPRA Program.

[FR Doc. 2025-20109 Filed 11-17-25; 8:45 am]

BILLING CODE 4312-52-P